FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 20, 2020.

A. Federal Reserve Bank of St. Louis (David L. Hubbard, Senior Manager) P.O. Box 442, St. Louis, Missouri 63166-2034. Comments can also be sent electronically to Comments.applications@stls.frb.org:

1. Mark A. Richards, Stewardson, Illinois; Beth A. Macke, Marshall, Illinois; Julie E. Krietemeier, Charleston, Illinois; the Florence B. Richards Self Declaration of Trust dated 2/25/03, Stewardson, Illinois, Mark A. Richards, Beth A. Macke, and Julie E. Krietemeier, as co-trustees; and Ashley P. Walker and Allison L. Walden, both of Mattoon, Illinois; to retain voting shares of Tri-County Bancshares, Inc., and thereby indirectly retain voting shares of First State Bank of Beecher City, both of Beecher City, Illinois.

Board of Governors of the Federal Reserve System, March 31, 2020.
Yao-Chin Chao,
Assistant Secretary of the Board.

[FR Doc. 2020-07055 Filed 4-2-20; 8:45 am]

BILLING CODE P